DEPARTMENT OF ENERGY

Federal Energy Regulatory Commission

[Docket No. EC00-125-001]

Casco Bay Energy Company, LLC, Duke Energy Oakland, LLC, Duke Energy Trenton, LLC, Duke Energy South Bay, LLC, Duke Energy Morro Bay, LLC, and Duke Energy Moss Landing, LLC; Notice of Filing

Correction

In notice document 00-22474 appearing on page 53284 in the issue of Friday, September 1, 2000, the docket number should read as set forth above.

[FR Doc. C0-22474 Filed 9-11-00; 8:45 am]

BILLING CODE 1505-01-D

ENVIRONMENTAL PROTECTION AGENCY

[FRL 6857-8]

Proposed Settlement Agreement, Clean Air Act Petitions for Review

Correction

In notice document 00-22051 appearing on page 52424, in the issue of Tuesday, August 29, 2000, make the following correction:

On page 52424, in the third column, the 10th line from the bottom, “(202) 546+5566” should read “(202) 564-5566”.

[FR Doc. C0-22051 Filed 9-11-00; 8:45 am]

BILLING CODE 1505-01-D

OFFICE OF GOVERNMENT ETHICS

5 CFR Part 2635

RIN 3209-AAO4

Standards of Ethical Conduct for Employees of the Executive Branch; Definition of Compensation for Purposes of Prohibition on Acceptance of Compensation in Connection With Certain Teaching, Speaking and Writing Activities

Correction

Interim rule document 00-22612 was inadvertently published in the Proposed Rules section of the issue of Tuesday, September 5, 2000 beginning on page 53650. It should have appeared in the Rules and Regulations section.

[FR Doc. C0-22612 Filed 9-11-00; 8:45 am]

BILLING CODE 1505-01-D

DEPARTMENT OF HEALTH AND HUMAN SERVICES

Health Care Financing Administration

42 CFR Parts 447 and 457

State Child Health; State Children's Health Insurance Program Allotments and Payments to States

Correction

In the issue of Monday, June 19, 2000, on page 38027, in the second column, in the correction of rule document 00-12879, CFR title “45” is corrected to read CFR title “42” as set forth above.

[FR Doc. C0-12879 Filed 9-11-00; 8:45 am]

BILLING CODE 1505-01-D

DEPARTMENT OF HOUSING AND URBAN DEVELOPMENT

[Docket No. FR-4566-N-11]

Notice of Proposed Information Collection: Comment Request, Historically Black Colleges and Universities (HBCUs) Program

Correction

In notice document 00-22351 beginning on page 53022, in the issue of Thursday, August 31, 2000, make the following corrections:

1. On page 53022, in the third column, the 26th line from the bottom, “ 28880” should read “2880”.

2. On the same page, in the same column, in the last paragraph, in the fifth line, “20754” should read “27054”.

[FR Doc. C0-22351 Filed 9-11-00; 8:45 am]

BILLING CODE 1505-01-D

DEPARTMENT OF TRANSPORTATION

Federal Aviation Administration

14 CFR Part 71

[Airspace Docket No. 00-AGL-17]

Modification of Class E Airspace; Dickinson, ND

Correction

In rule document 00-21815 beginning on page 52015 in the issue of Monday, August 28, 2000, make the following correction:

§71.1 [Corrected]

On page 52016, in the first column, in §71.1, under the heading “AGL ND E5 Dickinson, ND [Revised]”, in the 13th line, “225.2-mile” should read “25.2-mile”.ÿ7E

[FR Doc. C0-21815 Filed 9-11-00; 8:45 am]

BILLING CODE 1505-01-D